DEPARTMENT OF COMMERCE

National Oceanic and Atmospheric Administration

50 CFR Parts 223

[Docket No. 201125-0320]

RIN 0648-BK00

Endangered and Threatened Species: Designation of Nonessential Experimental Population of Central Valley Spring-Run Chinook Salmon in the Upper Yuba River Upstream of Englebright Dam, CA; Extension of Public Comment Period

AGENCY: National Marine Fisheries Service (NMFS), National Oceanic and Atmospheric Administration (NOAA), Commerce.

ACTION: Proposed rule; extension of public comment period.

SUMMARY: We, NMFS, announce the extension of the public comment period on our December 11, 2020, 30-day proposal of a rule to designate and authorize the release of a nonessential experimental population (NEP) of Central Valley (CV) spring-run Chinook salmon (Oncorhynchus tshawytscha) under the Endangered Species Act (ESA) in the upper Yuba River and its tributaries upstream of Englebright Dam, California, and establish take exceptions for the NEP for particular activities. A draft environmental assessment (EA) has been prepared on this proposed action and is available for comment. As part of that proposed action, we solicited comment on the proposed rule and EA over a 30-day period to end on January 11, 2021. Today, we update contact information, website addresses and extend the public comment period by 60 days to March 12, 2021. Comments previously submitted need not be resubmitted, as they will be fully considered in the agency's proposed action.

DATES: The deadline for receipt of comments is extended from January 11, 2021 until March 12, 2021.

ADDRESSES: You may submit comments on this proposed rule, identified by “NOAA-NMFS-2020-0139” by any one of the following methods:

• Electronic Submissions: Submit all electronic public comments via the Federal eRulemaking Portal. Go to https://beta.regulations.gov/docket/NOAA-NMFS-2020-0139/document click the “Comment Now!” icon, complete the required fields, and enter or attach your comments.

• Phone: (916) 930-3717; Fax: (916) 930-3629.

Instructions: Comments sent by any other method, to any other address or individual, or received after the end of the comment period, may not be considered by NMFS. All comments received are part of the public record and will generally be posted to http://www.regulations.gov without change. All personal identifying information (e.g., name, address, etc.), confidential business information, or otherwise sensitive information submitted voluntarily by the sender will be publicly accessible. NMFS will accept anonymous comments (enter “N/A” in the required fields if you wish to remain anonymous). Attachments to electronic comments will be accepted in Microsoft Word, Excel, or Adobe PDF file formats only.

You may access a copy of the draft EA and other supporting documents by visiting the NMFS website at: https://www.fisheries.noaa.gov/action/proposed-rule-authorize-reintroduction-central-valley-spring-run-chinook-salmon-upper-yuba.

FOR FURTHER INFORMATION CONTACT: Jonathan Ambrose, by phone at (916) 930-3717, or by mail at National Marine Fisheries Service, 650 Capitol Mall, Suite 5-100, Sacramento, CA 95814.

SUPPLEMENTARY INFORMATION:

Background

On December 11, 2020, we published a proposed rule to designate and authorize the release of a NEP of CV spring-run Chinook salmon under the ESA in the upper Yuba River and its tributaries upstream of Englebright Dam, California, and establish take exceptions for the NEP for particular activities. In that notice we also announced a 30-day public comment period and the availability of a draft EA.

We received a request to extend the public comment period by 90 days in order to provide the public with additional time to adequately comment on the proposed rule. We considered the request and concluded that a 60-day extension should allow sufficient time for responders to submit comments without significantly delaying finalization of the proposed rule. We are therefore extending the close of the public comment period from January 11, 2021, to March 12, 2021. In addition to extending the public comment period, we have also updated contact information and our website address to review the proposed rule and supporting materials.

Authority

The authority for this action is the Endangered Species Act of 1973, as amended (16 U.S.C. 1531 et seq.).

Dated: January 5, 2021.
Samuel D. Rauch, III,
Deputy Assistant Administrator for Regulatory Programs, National Marine Fisheries Service.

[FR Doc. 2021-00178 Filed 1-8-21; 4:15 pm]

BILLING CODE 3510-22-P